DEPARTMENT OF TRANSPORTATION

Federal Motor Carrier Safety Administration

[Docket No. FMCSA-2006-26367]

Motor Carrier Safety Advisory Committee Public Meeting

AGENCY: Federal Motor Carrier Safety Administration, DOT.

ACTION: Notice: Announcement of Motor Carrier Safety Advisory Committee meeting; request for comment.

SUMMARY: The Federal Motor Carrier Safety Administration (FMCSA) announces that its Motor Carrier Safety Advisory Committee (MCSAC) will hold a public meeting on March 31 and April 1, 2011, in Louisville, Kentucky. Discussion will focus on Patterns of Safety Violations by Motor Carrier Management (Committee Task 11-01), which was begun at the December 2010 meeting. The meeting will be held as part of the Mid America Trucking Show and will be open to the public for oral comment.

DATES: March 31, 2011, 8:30 a.m. to 4 p.m., ET. The last hour of the day will be reserved for public comment.

April 1, 2011, 10 a.m. to 2 p.m., ET. The public may comment throughout the meeting.

ADDRESSES: Thursday, March 31, 2011: Galt House Hotel, 1400 N. Fourth Street, Louisville, KY 40202. Willow Room, 3rd Floor, Rivue Tower. Friday, April 1, 2001: Kentucky Exposition Center (KEC), 937 Phillips Lane, Louisville, KY 40209. South Wing, Lobby B, Meeting Room C-101.

You may submit written comments identified by Docket ID Number FMCSA-2006-26367 by March 23, 2011, using any of the following methods:

Federal eRulemaking Portal: http://www.regulations.gov. Follow the online instructions for submitting comments.

Mail: Docket Management Facility: U.S. Department of Transportation, 1200 New Jersey Avenue, SE., West Building, Ground Floor, Room W12-140, Washington, DC 20590-0001.

Hand Delivery or Courier: West Building, Ground Floor, Room W12-140, 1200 New Jersey Avenue, SE., between 9 a.m. and 5 p.m. ET, Monday through Friday except Federal holidays.

Fax: 202-493-2251.

Do not submit the same comment by more than one method. To allow effective public participation before the comment period deadline, FMCSA encourages use of the Web site listed above (Federal eRulemaking Portal: http://www.regulations.gov).

FOR FURTHER INFORMATION CONTACT: Ms. Shannon L. Watson, Senior Adviser to the Associate Administrator for Policy, Federal Motor Carrier Safety Administration, U.S. Department of Transportation, 1200 New Jersey Avenue, SE., Washington, DC 20590, (202) 385-2395, mcsac@dot.gov.

SUPPLEMENTARY INFORMATION:

Motor Carrier Safety Advisory Committee

Section 4144 of the Safe, Accountable, Flexible, Efficient Transportation Equity Act: A Legacy for Users (SAFETEA-LU) (Pub. L. 109-59, 119 Stat. 1144, Aug. 10, 2005) required the Secretary of Transportation to establish a Motor Carrier Safety Advisory Committee. The Committee provides advice and recommendations to the FMCSA Administrator on motor carrier safety programs and regulations and operates in accordance with the Federal Advisory Committee Act (5 U.S.C. App. 2).

Patterns of Safety Violations Task (MCSAC Task 11-01)

Section 4133 of SAFETEA-LU allows the Secretary to suspend, amend, or revoke any part of a motor carrier's registration if the Secretary finds that any individual, while serving as an officer of that motor carrier, engages or has engaged in a pattern or practice of avoiding compliance, or masking or otherwise concealing noncompliance, with the Federal Motor Carrier Safety Regulations and/or Hazardous Materials Regulations. Section 4133 defines an officer as “an owner, director, chief executive officer, chief financial officer, safety director, vehicle maintenance supervisor, and driver supervisor of a motor carrier, regardless of title attached to these functions, and any person, however designated, exercising controlling influence over the operations of a motor carrier.”

Under MCSAC Task 11-01, FMCSA requests that the Committee identify concepts and ideas the Agency should consider in developing standards for Patterns of Safety Violations by Motor Carrier management to assist the Agency with implementing the requirements of section 4113 of SAFETEA-LU. In addition to providing suggestions on definitions and standards of what constitutes a pattern of safety violations, the Committee is encouraged to offer suggestions to the Administrator regarding: (1) Which company officials should be included under the definition of “officer,” and (2) how to ensure that officers responsible for safety violations or their concealment are subjected to appropriate penalties and sanctions under the new system mandated by SAFETEA-LU. In developing its recommendations, the MCSAC should consider principles of due process, including whether additional enforcement and legal staff resources are needed to address the volume of cases and appeals.

The MCSAC began deliberations on these issues at its December 2010 meeting and will complete action on the Patterns of Safety Violations task during the forthcoming meeting. Following the meeting, which may include presentations by experts, the Committee anticipates completion of a letter report to the Administrator.

Issued on: February 28, 2011.
Larry W. Minor,
Associate Administrator for Policy.

[FR Doc. 2011-4968 Filed 3-3-11; 8:45 am]

BILLING CODE 4910-EX-P